ENVIRONMENTAL PROTECTION AGENCY

40 CFR Part 52

[FRL-7034-3]

Notice of Prevention of Significant Deterioration Final Determination for Three Mountain Power, LLC, Burney, CA

AGENCY: Environmental Protection Agency.

ACTION: Notice of final action.

SUMMARY: The purpose of this document is to announce that, on May 30, 2001, the U.S. Environmental Protection Agency (EPA) Environmental Appeals Board (“Board”) dismissed the petition for review filed by the Burney Resources Group of a permit issued to Three Mountain Power, LLC (“TMP”) by the Shasta County Air Quality Management District (“Shasta” or “District”) pursuant to the Prevention of Significant Deterioration of Air Quality (PSD) regulations under 40 CFR 52.21. This document also announces that a final PSD permit has been issued to TMP by the Shasta pursuant to the terms and conditions of the District's delegation of authority from the U.S. EPA under 40 CFR 52.21(u).

DATES: The effective date for the Board's decision is May 30, 2001.

FOR FURTHER INFORMATION CONTACT: Duong Nguyen, Permits Office (AIR3), Air Division, U.S. EPA Region IX, 75 Hawthorne Street, San Francisco, CA 94105, (415) 744-1142.

SUPPLEMENTARY INFORMATION: On February 20, 2001, the District issued a revised Authority to Construct (ATC) to TMP for the construction of a new electricity generating plant in Burney, CA. The revised ATC reflected information and comments provided by TMP, interested parties, and the public through February 20, 2001. The revised ATC also constituted a final PSD Permit pursuant to 40 CFR 52.21, the terms and conditions of the District's delegation of authority from the U.S. EPA under 40 CFR 52.21(u), and Section 7 of the federal Endangered Species Act. Subsequent to the issuance of the revised ATC, the Burney Resources Group filed a petition for review of the ATC with the Board on March 21, 2001. On May 30, 2001, the Board denied review of the petition for the following reasons: (1) Petitioner has not shown that the District's selection of a 2.5 ppm (averaged over one hour) NOX limit as BACT to be clearly erroneous or an exercise of discretion or an important policy consideration that the Board should, in its discretion, review; (2) the District's selection of a 4 ppm (averaged over three hours) CO limit is consistent with the BACT limit established for other sources in Region IX; (3) the District's elimination of SCONOX, a new control technology, during the BACT review did not materially affect the final determination of the limit constituting BACT, since this limit would be achieved with either a selective catalytic reduction (SCR) system or SCONOX; (4) the District's selection of a 5 ppm ammonia slip is the most stringent ammonia control in PSD permits issued in Region IX and Petitioner's argument that the ammonia slip will form secondary PM10 is highly speculative in nature; and (5) issues regarding PM10 and SO2 offsets and mitigation measures are not within the purview of the federal PSD program. (See In re: Three Mountain Power, LLC, PSD Appeal No. 01-05.)

Pursuant to 40 CFR 124.19(f)(1), for purposes of judicial review, final Agency action occurs when a final PSD permit is issued and Agency review procedures are exhausted. This document is being published pursuant to 40 CFR 124.19(f)(2), which requires notice of any final agency action regarding a permit to be published in the Federal Register. This action being published today in the Federal Register constitutes notice of the final Agency action denying review of the PSD permit and, consequently, notice of the District's issuance of final PSD permit No. 99-PO-01 to Three Mountain Power, LLC, on February 20, 2001.

The proposed power plant, located near the town of Burney, Shasta County, California, will have a nominal electrical output of 500 MW and will be fired on natural gas. The proposed facility will be subject to PSD for Nitrogen Oxides (NOX), Carbon Monoxide (CO), Volatile Organic Compounds (VOC), and Particulate Matter (PM10). The permit includes the following Best Available Control Technology (BACT) emission limits: NOX at 2.5 ppmvd (based on 1-hour averaging at 15% O2), 4 ppmvd CO (based on 3-hour averaging at 15% O2), 2 ppmvd VOC (based on 1-hour averaging at 15% O2), and PM10 at 0.0012 grain/dscf (based on 1-hour averaging at 3% CO2). The BACT requirements include use of Selective Catalytic Reduction (SCR) for the control of NOX emissions, an oxidation catalyst for CO and VOC emissions, and a combination of good combustion control and natural gas for the control of PM10 emissions. Continuous emission monitoring is required for NOX, CO and opacity. The facility is also subject to New Source Performance Standards, Subparts AA and GG, and the Acid Rain program under title IV of the Clean Air Act.

If available, judicial review of these determinations under section 307(b)(1) of the CAA may be sought only by the filing of a petition for review in the United States Court of Appeals for the appropriate circuit within 60 days from the date on which this document is published in the Federal Register. Under section 307(b)(2) of this Act, this determination shall not be subject to later judicial review in any civil or criminal proceedings for enforcement.

Dated: July 30, 2001.
Jack P. Broadbent,
Director, Air Division, Region IX.

[FR Doc. 01-20661 Filed 8-15-01; 8:45 am]

BILLING CODE 6560-50-P